DEPARTMENT OF AGRICULTURE

Rural Housing Service

[Docket No.: RHS-24-MFH-0007]

60-Day Notice of Proposed Information Collection: Supervised Bank Accounts; OMB Control No.: 0575-0158

AGENCY: Rural Housing Service, USDA.

ACTION: Notice; request for comments.

SUMMARY: The United States Department of Agriculture (USDA), Rural Housing Service (RHS) announces its' intention to request a revision of a currently approved information collection and invites comments on this information collection.

DATES: Comments on this notice must be received by June 11, 2024 to be assured of consideration.

ADDRESSES: Comments may be submitted electronically by the Federal eRulemaking Portal, http://www.regulations.gov. In the “Search for dockets and documents on agency actions” box, enter the docket number “RHS-24-MFH-0007,” and click the “Search” button. From the search results: click on or locate the document title: “60-Day Notice of Proposed Information Collection: Supervised Bank Accounts; OMB Control No.: 0575-0158” and select the “Comment” button. Before inputting comments, commenters may review the “Commenter's Checklist” (optional). To submit a comment: Insert comments under the “Comment” title, click “Browse” to attach files (if available), input email address, select box to opt to receive email confirmation of submission and tracking (optional), select the box “I'm not a robot,” and then select “Submit Comment.”

Information on using Regulations.gov, including instructions for accessing documents, submitting comments, and viewing the docket after the close of the comment period, is available through the site's “FAQ” link.

All comments will be available for public inspection online at the Federal eRulemaking Portal (https://www.regulations.gov).

FOR FURTHER INFORMATION CONTACT: Barbara Chism, Finance and Loan Analyst, Multi-Family Housing Asset Management Division, Policy and Budget Branch, STOP 0782-Room 1263S, U.S. Department of Agriculture, 1400 Independence Avenue SW, Washington, DC 20250-0782. Telephone: (202) 690-1436. Email: Barbara.Chism@usda.gov.

SUPPLEMENTARY INFORMATION:

Title: 7 CFR 1902-A, Supervised Bank Accounts.

OMB Number: 0575-0158.

Expiration Date of Approval: December 31, 2024.

Type of Request: Revision of a currently approved information collection.

Estimate of Burden: Public reporting burden for this information collection is estimated to average 0.83 hours per response.

Respondents: Small Business.

Estimated Number of Respondents: 13,052.

Estimated Number of Annual Responses: 4,625.

Estimated Total Annual Burden Hours of Respondents: 5.33.

Abstract: The Agency extends financial assistance to applicants that do not qualify for loans under commercial rates and terms.

The Agency uses Supervised Bank Account (SBA) as a mechanism to: (1) ensure correct disbursement and expenditure of funds designated for a project; (2) help a borrower properly manage its financial affairs; (3) ensure that the Government's security is protected adequately from fraud, waste, and abuse.

SBAs are mandatory for Multi-Family Housing (MFH) reserve accounts. The MFH funds must be kept in the SBA for the full term of a loan. Any funds withdrawn for disbursement for an authorized purpose requires prior approval from an Agency Loan Servicing official. Countersignature from an Agency Loan Servicing official may or may not be required.

This regulation prescribes the policies and responsibilities for the use of SBAs. In carrying out the mission as a supervised credit Agency, this regulation authorizes the use of supervised accounts for the disbursement of funds. The use may be necessitated to disburse Government funds consistent with the various stages of any development (construction or rehabilitation) work achieved. On limited occasions, a supervised account is used to provide temporary credit counseling and oversight of those being assisted who demonstrate an inability to handle their financial affairs responsibly. Another use is for depositing MFH reserve account funds in a manner that may require Agency co-signature for withdrawals. MFH reserve account funds are held in a reserve account for the future capital improvement needs for MFH properties. Supervised accounts are established to ensure Government security is adequately protected against fraud, waste, and abuse.

The legislative authority for requiring the use of supervised accounts is contained in section 510 of the Housing Act of 1949, as amended (42 U.S.C. 1480). These provisions authorize the Secretary of Agriculture to make such rules and regulations as deemed necessary to carry out the responsibilities and duties the Government is charged with administering.

Comments are invited on:

(a) whether the proposed collection of information is necessary for the proper performance of the functions of the Agency, including whether the information will have practical utility;

(b) the accuracy of the Agency's estimate of the burden of the proposed collection of information including the validity of the methodology and assumptions used;

(c) ways to enhance the quality, utility and clarity of the information to be collected; and

(d) ways to minimize the burden of the collection of information on those who are to respond, including through the use of appropriate automated, electronic, mechanical, or other technological collection techniques or other forms of information technology.

Copies of this information collection can be obtained from Crystal Pemberton, Rural Development Innovation Center—Regulations Management Division, at (202) 202-260-8621. Email: Crystal.Pemberton@usda.gov.

All responses to this notice will be summarized and included in the request for OMB approval. All comments will also become a matter of public record.

Joaquin Altoro,
Administrator, Rural Housing Service.

[FR Doc. 2024-07782 Filed 4-11-24; 8:45 am]

BILLING CODE 3410-XV-P